DEPARTMENT OF THE INTERIOR

Bureau of Land Management

[W0 640 1020 PF 24 1A]

Notice of Resource Advisory Councils Meetings

AGENCY: Bureau of Land Management, Interior.

ACTION: Notice of public meetings.

SUMMARY: In accordance with the Federal Land Policy and Management Act (FLPMA) and the Federal Advisory Committee Act of 1972 (FACA), the U.S. Department of the Interior, Bureau of Land Management (BLM) Resource Advisory Councils (RACs), will meet as indicated in the table under dates specified below:

DATES: We will hold the meetings as shown in the table below:

RAC name | Date(s) and times | Location and contact | Agenda topics | Public comment period
Arizona RAC | Nov. 20, 10 a.m.-4 p.m. | BLM National Training Center, 9828 North 31st Ave., Phoenix, AZ. Contact: Deborah Stevens, (602) 417-9215 | RAC discussion of National RAC Conference Outcome and Recommendations, and Working Group Reports for Recreation/Tourism, Planning, Wild Horse and Burro, Public Relations and Standards for Rangeland Health and Guidelines for Grazing Administration | 2:30-3 p.m., November 20, 2002.
Front Range RAC | Nov. 20, 2002, 9:30 a.m.-4 p.m. | Holy Cross Abbey Community Center, 2951 E Highway 50, Canon City, CO. Contact: Ken Smith, (719) 269-8500 | Update on Gold Belt Travel Management Plan and current land management issues | 1:30 p.m., Nov. 20, 2002.
Upper Snake RAC | Nov. 19, 2002, 10 a.m.-4:30 p.m. Nov. 20, 2002, 8:30 a.m.-4:30 p.m. | BLM Pocatello Field Office, 1111 N. 8th Ave, Pocatello, Idaho. Contact: David Howell, (208) 524-7559 | Orientation of new RAC members, Blackfoot Wild & Scenic River Study, Craters of the Moon National Monument Planning | 8:30 a.m., Nov. 20, 2002.
Lower Snake RAC | Nov. 20, 2002, 8:30 a.m.-4:30 p.m. | Lower Snake River District Field Office, 3948 Development Ave., Boise, Idaho. Contact: MJ Byrne, (208) 384-3393 | Resource Management Plans, Sage Grouse management, Off Highway Vehicle, River Recreation Management, Fire and Fuels Management | 8:30 a.m.-9:30 a.m., Nov. 20, 2002.
Upper Columbia-Salmon Clearwater RAC | Nov. 20, 2002, 8:30 a.m.-4:30 p.m. | BLM Missoula Field Office, 3255 Fort Missoula, MT. Contact: Stephanie Snook, (208) 769-5004 | Discuss and prioritize emergency/future issues | 8:30-9:30 a.m., Nov. 20, 2002.
Eastern Montana RAC | Nov. 20, 2002, 8 a.m.-2 p.m. | BLM-MT State Office 5001 Southgate Drive, Billings, MT. Contact: Linda Reder, (406) 233-2824 | National RAC Video Conference, Oil and Gas EIS (coal bed methane) Update, Weatherman Draw Subcommittee Update, Yellowstone River Floaters Guide, Sage Grouse | 9 a.m. Nov. 20, 2002.
Central Montana RAC | Nov. 19, 2002, 1-5:15 p.m. Nov. 20, 2002, 8 a.m.-5 p.m. Nov. 21, 2002, 8-11:30 a.m. | BLM Lewiston Field Office, Airport Road, Lewistown, MT. Contact: Bruce Reed, (406) 654-1240 | Nov. 19: Election of officers, review/decision re: sage grouse management plan, presentation concerning easements, field managers updates Nov. 20: National RAC satellite broadcast, results from scoping open houses for Monument Resource management Plan, 2002 floating season on the Upper Missouri River, fee system proposal review, recommendations from the Missouri River visitor use subgroup Nov. 21: Vehicle trespass in the Sweet Grass Hills, roads and oil and gas activity in North Blain Co., discuss weed and oil/gas field tours, update on Montana Air National Guard target range, administrative duties | 1-1:30 p.m., Nov. 19, 2002. 8-8:30 a.m., Nov. 20, 2002.
Utah RAC | Nov. 20, 8:30 a.m.-4:30 p.m. | BLM Utah State Office, 324 S. State St., Third Floor Conference Room. Contact: Sherry Foot, (801) 539-4195 | Election of Officers, Video Conference, Orientation to BLM, What's Happening on Utah's BLM Lands, Subgroup Updates (San Rafael Swell and Raptor) | 3:45-4:15 p.m.

FOR FURTHER INFORMATION CONTACT: We list the contact for each individual RAC in the table above. If you have general questions about the RACs or the video teleconference you may contact Karen Slater at (202) 452-0358.

SUPPLEMENTARY INFORMATION: The RACs advise the Secretary of the Interior, through the Bureau of Land Management, on a variety of planning and management issues associated with public land management. Every RAC will participate in a video teleconference on November 20 at 10 a.m., Mountain Standard Time.

All meetings are open to the public. The public may present written comments to the Councils. Each formal Council meeting will also have time allocated for hearing public comments. Depending on the number of persons wishing to comment and time available, the time for individual oral comments may be limited. Individuals who plan to attend and need special assistance, such as sign language interpretation, tour transportation or other reasonable accommodations, should contact the BLM as provided above.

Dated: October 17, 2002.
Karen Slater,
Intergovernmental Affairs Group Manager.

[FR Doc. 02-26877 Filed 10-21-02; 8:45 am]

BILLING CODE 4310-84-P